LEGAL SERVICES CORPORATION

45 CFR Parts 1621 and 1624

Client Grievance Procedures and Prohibition Against Discrimination on the Basis of Disability: Request for Information

AGENCY: Legal Services Corporation.

ACTION: Request for Information.

SUMMARY: The Legal Services Corporation (LSC) is requesting public input on proposed revisions to regulations related to client grievance procedures and prohibition of discrimination based on disability, respectively. LSC is considering expanding the regulations' scope to require grantees to establish grievance procedures for board members and ensure they are afforded disability protections. The main purpose of these proposals would be to give board members the same protections under the regulations as applicants for legal assistance, clients, and grantee employees.

DATES: Comments due May 29, 2024.

Listening sessions, all conducted via Zoom, all times Eastern:

1. Wednesday, March 13, 2024, 10:30 a.m.-12:30 p.m.

2. Friday, March 22, 2024, 2:00 p.m.-4:00 p.m.

3. Tuesday, April 3, 2024, 3:00 p.m.-5:00 p.m.

4. Monday, April 15,2024, 1:00 p.m.-3:00 p.m.

ADDRESSES: You may send comments by any of the following methods:

• Federal Rulemaking Portal: http://www.regulations.gov. Follow the instructions for submitting comments.

• Email: lscrulemaking@lsc.gov. Include “Parts 1621 & 1624” in the subject line of the message.

• Mail: Brittany Sims Nwankwoala, Assistant General Counsel, Legal Services Corporation, 3333 K St. NW, Washington, DC 20007; ATTN: Parts 1621 & 1624 Rulemaking.

• Hand Delivery/Courier: Brittany Sims Nwankwoala, Assistant General Counsel, Legal Services Corporation, 3333 K St. NW, Washington, DC 20007; ATTN: Parts 1621 & 1624 Rulemaking.

FOR FURTHER INFORMATION CONTACT: Brittany Sims Nwankwoala, Assistant General Counsel, Legal Services Corporation, 3333 K Street NW, Washington, DC 20007; (202) 295-1599 (phone); or nwankwoalab@lsc.gov.

SUPPLEMENTARY INFORMATION: Listening Session Access Information: To participate in the listening sessions via Zoom, please follow the link or use the dial-in instructions below:

Link: https://lsc-gov.zoom.us/j/4396412186.

Meeting ID: 439 641 2186.

Find your local number: https://lsc-gov.zoom.us/u/kAZIVdfiA.

Background: Consistent with Executive Orders 14058 and 13985, LSC reached out to the client-eligible community to seek their views on LSC's rulemaking priorities. LSC was particularly interested in their views on those rules that directly affect individuals who qualify for LSC- funded legal assistance. Community members asked LSC to expand upon parts 1621 and 1624. Part 1621 requires legal services programs that receive financial assistance from LSC to establish grievance procedures to process complaints by applicants regarding the denial of legal assistance and complaints by clients about the manner or quality of legal assistance provided. These procedures should, to the extent possible, result in the provision of an effective remedy in the resolution of complaints. The grievance procedures required by part 1621 cover complaints by individuals denied legal assistance and by clients dissatisfied by the manner or quality of legal assistance received. No part of LSC's current regulations provides a mechanism for governing body members to make complaints about board malfeasance and obtain resolution of those complaints.

Part 1624 requires LSC funded legal services programs to remove any impediments that may exist to the provision of legal assistance to persons with disabilities eligible for such assistance in accordance with section 504 of the Rehabilitation Act of 1973. Currently, part 1624 explicitly applies only to applicants for legal assistance, clients, applicants for employment, and grantee employees. Because many client-eligible members are persons with disabilities, the commenters felt expanding part 1624 to include governing body members was necessary to ensure that client-eligible individuals are afforded the same opportunities to be selected for and participate in grantee governing body activities as persons who do not have disabilities.

Through this Notice, LSC is asking grantees, clients, other stakeholders, and interested members of the public to provide LSC with their views on the following questions:

• What policies and procedures do your organizations currently have in place to address board member grievances? Describe the process.

• Has your organization had positive or negative experiences with utilizing these procedures in the past?

• What effect or impact would revising parts 1621 and 1624 to apply to grantee governing body members have on your organization? Unexpected outcomes?

• Based on previous experience, how often would your organization use regulations like part 1621 and part 1624?

• Is there anything else LSC can do to help resolve conflicts on your organization's board?

Interested parties may submit their comments in writing to LSC via email, fax, or postal mail. Additionally, LSC will hold four listening sessions during which interested parties may join a Zoom call with LSC staff to provide their comments orally. The dates and access information for those listening sessions are contained in the DATES section of this notice.

(Authority: 42 U.S.C. 2996g(e).)

Dated: February 21, 2024.
Stefanie Davis,
Deputy General Counsel, Legal Services Corporation.

[FR Doc. 2024-03867 Filed 2-28-24; 8:45 am]

BILLING CODE 7050-01-P